DEPARTMENT OF THE INTERIOR

Bureau of Land Management

[COC-54563; CO-520-1430-EU]

Notice of Intent to Amend the San Luis Resource Management Plan; and Notice of Realty Action for the Baxter Public Land Sale, CO

AGENCY: Bureau of Land Management, Interior.

ACTION: Notice of intent to prepare an amendment to the San Luis Resource Management Plan; and notice of realty action, direct sale of public land in Saguache County, Colorado.

SUMMARY: The Bureau of Land Management (BLM), Saguache Field Office (SFO) announces its intent to prepare an amendment to a Resource Management Plan (RMP), pursuant to the BLM planning regulations in 43 CFR 1600. The amendment would consider whether or not a 28.63 acre public land parcel currently included in the SFO's non-sale zone is suitable for direct sale pursuant to section 203 of the Federal Land Policy and Management Act of 1976 (43 U.S.C. 1713), as amended, to resolve an occupancy trespass.

The following land would be sold at no less than the appraised fair market value:

New Mexico Principal Meridian, Colorado

T. 44 N., R. 7 E.,

Sec. 13: lot 1,

Sec. 24: lot 1, 2

Containing 28.63 acres.

The parcel will be offered by direct sale, without mineral rights, to John Baxter. The land described is hereby segregated from appropriation under the public land laws, including the mining laws, until the land is sold or 270 days from publication of this notice, whichever occurs first. Detailed information concerning this sale, including dates, price, patent reservations, sale procedures, etc. will be available upon request.

DATES: Interested parties may submit written comments to the Field Office Manager at the address listed below. Comments will be accepted for 45 days after the date this notice is published in the Federal Register.

ADDRESSES: If you wish to comment, request additional information or request to be put on the mailing list, you may do so by any of several methods. You may mail or hand-deliver your comments or requests to: Field Manager, Bureau of Land Management, Saguache Field Office, 46525 Hwy 114, Saguache, CO 81149; 719-655-2547. Comments, including names and addresses of respondents, will be available for public review at the Bureau of Land Management, Saguache Field Office, 46525 Hwy 114, Saguache, CO during regular business hours. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

FOR FURTHER INFORMATION CONTACT: Tom Goodwin, Field Manager, or Bill Miller, Realty Specialist, at the address and phone number listed above.

SUPPLEMENTARY INFORMATION: The RMP provides for three land ownership adjustment zones—disposal, retention, and exchange. Of these three zones, sale of public land is limited to those lands identified in the disposal zone. The proposed amendment would make public land located within the non-sale zone available for direct sale to resolve an occupancy trespass.

A legal notice describing the proposed planning action will be placed in the local newspaper. This notice will also be sent to the Governor of Colorado, Saguache County Commissioners, adjacent landowners, and potentially affected members of the public. The analysis of this action will be done by an interdisciplinary team. The analysis and plan amendment are scheduled for completion in June 2003.

Date Issued: April 14, 2003.
Tom Goodwin,
Saguache Field Manager.

[FR Doc. 03-15050 Filed 6-13-03; 8:45 am]

BILLING CODE 4310-JB-P